SMALL BUSINESS ADMINISTRATION

Federal Assistance To Provide Financial Counseling and Other Technical Assistance to Women

AGENCY: Small Business Administration.

ACTION: Amendment to Federal Register Notice, FR Doc. 02-16785, Filed 7-3-02, (67 FR 44920) pertaining to Program Announcement No. OWBO-2002-018. This amendment changes the application period and informs interested parties where to electronically access the program announcement and application materials.

SUMMARY: Whereas the previous notice stated that the application period is July 15, 2002 through August 12, 2002, this notice informs interested parties that the application period has changed to July 18, 2002 through August 15, 2002. Program Announcement No. OWBO-2002-018 may be electronically accessed at http://www.onlinewbc.gov/grants.html.

FOR FURTHER INFORMATION CONTACT: Sally S. Murrell at (202) 205-6673 or Mina Bookhard at (202) 204-7080.

Wilma Goldstein,
Assistant Administrator, SBA/Office of Women's Business Ownership.

[FR Doc. 02-18767 Filed 7-24-02; 8:45 am]

BILLING CODE 8025-01-P